FEDERAL COMMUNICATIONS COMMISSION

47 CFR Part 73

[DA No. 00-1208, MM Docket No. 97-116; RM-9050 & RM-9123]

Radio Broadcasting Services; Estero, Everglades City, LaBelle, and Key West, FL

AGENCY: Federal Communications Commission.

ACTION: Final rule.

SUMMARY: In response to a petition filed by Keith L. Reising a Notice of Proposed Rule Making was issued proposing the allotment of Channel 224A at Everglades City, Florida. See 62 FR 22900, April 28, 1997. In response to a counterproposal filed by InterMart Broadcasting West Coast, Inc., this document substitutes Channel 223C3 for Channel 223A at LaBelle, Florida, reallots Channel 223C3 to Estero, Florida, and modifies the license for Station WWWD to specify Estero as its community of license. The coordinates for Chanel 223C3 at Estero are 26-21-50 and 81-46-00. To accommodate the channel at Estero, we have substituted Channel 224C1 for Channel 223C1 at Key West, Florida, and modified the license for Station WEOW accordingly. The coordinates for Channel 224C1 at Key West are 24-40-35 and 81-30-41. The proposal for Everglades City is dismissed as it has been determined that a first local service at Estero will serve a larger population than an allotment at Everglades City. With this action, this proceeding is terminated.

DATES: Effective July 17, 2000.

FOR FURTHER INFORMATION CONTACT: Kathleen Scheuerle, Mass Media Bureau, (202) 418-2180.

SUPPLEMENTARY INFORMATION: This is a summary of the Commission's Report and Order, MM Docket No. 97-116, adopted May 24, 2000, and released June 2, 2000. The full text of this Commission decision is available for inspection and copying during normal business hours in the Commission's Reference Center, 445 Twelfth Street, SW, Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Florida, is amended by removing LaBelle, Channel 223C1 and adding Estero, Channel 223C3 and by removing Channel 223C1 and adding Channel 224C1 at Key West.

Federal Communications Commission.
John A. Karousos,
Chief, Allocations Branch, Policy and Rules Division, Mass Media Bureau.

[FR Doc. 00-15261 Filed 6-15-00; 8:45 am]

BILLING CODE 6712-01-P